DEPARTMENT OF ENERGY

Federal Energy Regulatory Commission

[Docket No. RP96-200-050]

Reliant Energy Gas Transmission Company; Notice of Proposed Changes in FERC Gas Tariff

February 8, 2000.

Take notice that On January 31, 2000, Reliant Energy Gas Transmission Company (REGT) tendered for filing as part of its FERC Gas Tariff, Fifth Revised Volume No. 1, the following tariff sheet to be effective February 1, 2000.

Second Revised Sheet No. 8H

REGT states that the purpose of this filing is to reflect the implementation of a new negotiated rate contract.

Any person desiring to protest this filing should file a protest with the Federal Energy Regulatory Commission, 888 First Street, NE, Washington, DC 20426, in accordance with Section 385.211 of the Commission's Rules and Regulations. All such protests must be filed as provided in Section 154.210 of the Commission's Regulations Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-3314 Filed 2-11-00; 8:45 am]

BILLING CODE 6717-01-M